DEPARTMENT OF HOUSING AND URBAN DEVELOPMENT

[Docket No. FR-5600-N-18-C-1]

HUD's Fiscal Year (FY) 2012 Transformation Initiative: Natural Experiments Research Grant Program, Cancellation

AGENCY: Office of the Assistant Secretary for Policy Development and Research, HUD.

ACTION: Notice of cancellation of notice of funding availability.

SUMMARY: On February 14, 2012, HUD posted a Notice of Funding Availability (NOFA) “Transformation Initiative: Natural Experiments Grant Program” on Grants.gov. The close date of the NOFA was March 29, 2012, at 11:59 p.m. A total of 6 applications were received. None of the applications met the requirements contained in the Notice of Funding Availability. Therefore, HUD is cancelling this funding opportunity.

FOR FURTHER INFORMATION CONTACT: For questions concerning the NOFA please contact Mark Shroder at Mark.D.Shroder@hud.gov or 202-402-5922. This number is not toll-free. Persons with hearing or speech impairments may access this number via TTY by calling the Federal Relay Service at 800-877-8339.

Dated: June 28, 2012.
Erika C. Poethig,
Acting Assistant Secretary for Policy Development and Research.

[FR Doc. 2012-16843 Filed 7-9-12; 8:45 am]

BILLING CODE 4210-67-P